DEPARTMENT OF ENERGY

Federal Energy Regulatory Commission

[Project No. 2242-078]

Eugene Water and Electric Board; Notice of Technical Conference

a. Date and Time of Meeting: Wednesday, March 29, 2017, beginning at 9:00 a.m. (PST) and concluding no later than 4:00 p.m. (PST)

b. Place: Willamette National Forest Supervisor's Office, 3106 Pierce Parkway, Suite D, Room 213, Springfield, Oregon 97477. For directions, please contact the Supervisor's Office at (541) 225-6300.

c. FERC Contact: Dianne Rodman at (202) 502-6077 or dianne.rodman@ferc.gov.

d. Purpose of Meeting: To discuss the amended settlement agreement, filed on November 30, 2016 by the Eugene Water and Electric Board (EWEB), as part of the application for new license for EWEB's Carmen-Smith Hydroelectric Project No. 2242.

e. There will be no transcript of the conference, but a summary will be prepared for the project record.

f. All local, state, and federal agencies, Indian tribes, and other interested parties are invited to participate either in person or by telephone. Please call Patty Boyle at (541) 685-7406 by 5:00 p.m. March 27, 2017, to RSVP and to receive specific instructions on how to participate by telephone.

g. EWEB and FERC staff will conduct a project Environmental Site Review beginning at 9:00 a.m. on Tuesday, March 28, 2017. All interested individuals, organizations, and agencies are invited to attend. The Carmen-Smith Project is located approximately 71 miles east of Eugene, Oregon.

h. All participants should meet at the project headquarters on U.S. Highway 126 (McKenzie Highway), immediately upstream from the Carmen powerhouse. Parking during the Environmental Site Review will be limited and carpooling is encouraged. Participants should dress for outdoor winter weather. Anyone intending to participate or with questions about the Environmental Site Review should contact Patty Boyle of EWEB at (541) 685-7406.

Dated: February 10, 2017.
Kimberly D. Bose,
Secretary.

[FR Doc. 2017-03154 Filed 2-16-17; 8:45 am]

BILLING CODE 6717-01-P